DEPARTMENT OF TRANSPORTATION

Federal Aviation Administration

14 CFR Part 39

[Docket No. FAA-2004-19354; Directorate Identifier 2004-CE-30-AD]

RIN 2120-AA64

Airworthiness Directives; Precise Flight, Inc. Models SVS I and SVS IA Standby Vacuum Systems

AGENCY: Federal Aviation Administration (FAA), DOT.

ACTION: Notice of proposed rulemaking (NPRM).

SUMMARY: The FAA proposes to adopt a new airworthiness directive (AD) for all airplanes equipped with Precise Flight, Inc. (Precise Flight) Models SVS I and SVS IA standby vacuum systems (SVS) installed under certain supplemental type certificates or through field approval. This proposed AD would require you to replace the airplane flight manual supplement (AFMS) in the airplane flight manual with the appropriate revision and install placards as defined in the AFMS, upgrade the Model SVS I or SVS IA SVS to the Model VI SVS, and add the instructions for continued airworthiness (ICA) to the maintenance schedule for the aircraft. This proposed AD results from several reports of failed shuttle control valves of the standby vacuum system (SVS) and one report of an airplane crash with a fatality in which improper use of the SVS was a factor. We are issuing this proposed AD to correct problems with the SVS before failure or malfunction during instrument flight rules (IFR) flight that can lead to pilot disorientation and loss of control of the aircraft.

DATES: We must receive any comments on this proposed AD by April 29, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Precise Flight, Inc., 63120 Powell Butte Road, Bend Oregon 97701, telephone: (800) 547-2558; facsimile: (541) 388-1105; electronic mail: preciseflight@preciseflight.com; Internet: http://www.preciseflight.com/.

To view the comments to this proposed AD, go to http://dms.dot.gov. The docket number is FAA-2004-19354.

FOR FURTHER INFORMATION CONTACT: Ms. Marcia Smith, Aerospace Engineer, FAA, Seattle Aircraft Certification Office, 1601 Lind Avenue, SW., Renton, Washington 98055-4065; telephone: (425) 917-6484; facsimile: (425) 917-6590.

SUPPLEMENTARY INFORMATION:

Comments Invited

How do I comment on this proposed AD? We invite you to submit any written relevant data, views, or arguments regarding this proposal. Send your comments to an address listed under ADDRESSES. Include the docket number, “FAA-2004-19354; Directorate Identifier 2004-CE-30-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2004-19354. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The FAA has received several reports of problems on aircraft equipped with a Precise Flight, Inc. standby vacuum system (SVS). In particular, the reports show 14 incidents of failed shuttle control valves and one report of an airplane crash with a fatality where improper use of the SVS was a factor that caused us to issue AD 99-24-10, Amendment 39-11434 (64 FR 66747, November 30, 1999). AD 99-24-10 currently requires the following on all aircraft equipped with Precise Flight, Inc. Model SVS III standby vacuum systems installed under the applicable supplemental type certificate (STC) or through field approval:

—Incorporate revised operating limitations for the affected SVS into the airplane flight manual (AFM);

—Inspect (repetitively) the push-pull cable, vacuum lines, saddle fittings, and shuttle valve for correct installation and damage (wear, chafing, deterioration, and so forth); and

—Correct any discrepancy found and conduct a function test of the vacuum system after the inspections.

The SVS is intended to provide emergency vacuum power for aircraft instruments when the primary vacuum system fails. The design of the Precise Flight, Inc. Models SVS I and SVS IA SVS is similar to the Model SVS III SVS, and so it may not be able to provide sufficient vacuum power to correctly measure altitude and operate the vacuum instruments. The upgrade of the Models SVS I or IA SVS to the Model SVS VI SVS provides sufficient vacuum power to correctly measure altitude and operate the vacuum instruments.

Failure of the SVS in instrument flight rules (IFR) can lead to the pilot making incorrect decisions based on the data received from the instruments with consequent loss of control of the aircraft.

The Precise Flight, Inc. Models SVS I and SVS IA SVS are installed on aircraft through a supplemental type certificate (STC) or through field approval. The Applicability section of the proposed AD lists the applicable STCs and aircraft that could have these SVS installed. This list is not meant to be exhaustive nor does it include all aircraft with the systems installed through field approval.

What is the potential impact if FAA took no action? Failure or malfunction of the SVS during IFR flight can lead to pilot disorientation and loss of control of the aircraft.

Is there service information that applies to this subject? Precise Flight, Inc. has issued Installation Report No. 08080, Standby Vacuum System Model VI—Shuttle Valve S/N 10243 & Subsequent (Manual Valve), Revision A, dated February 21, 2001. This report provides instructions for the upgrade of the Models SVS I or SVS IA SVS to the Model VI SVS; and includes procedures for upgrading to the Model SVS VI SVS.

FAA's Determination and Requirements of This Proposed AD

What has FAA decided? We have evaluated all pertinent information and identified an unsafe condition that is likely to exist or develop on other products of this same type design. For this reason, we are proposing AD action.

What would this proposed AD require? This proposed AD would require you to replace the airplane flight manual supplement (AFMS) in the airplane flight manual with the appropriate revision and install placards as defined in the AFMS, upgrade the Model SVS I or SVS IA SVS to the Model VI SVS, and add the instructions for continued airworthiness (ICA) to the maintenance schedule for the aircraft.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 800 airplanes in the U.S. registry.

What would be the cost impact of this proposed AD on owners/operators of the affected airplanes? We estimate the following costs to replace the airplane flight manual supplement (AFMS) in the airplane flight manual with the appropriate revision. We have no way of determining the number of airplanes that may need this replacement:

Labor cost | Parts cost | Total cost per airplane
1 work hour × $65 = $65 | None | $65

We estimate the following costs to do any upgrade to the Model SVS VI SVS, install placards, and add the installation report including the instructions for continued airworthiness (ICA) to the maintenance schedule for the aircraft. We have no way of determining the number of airplanes that may need this upgrade:

Labor cost | Parts cost | Total cost per airplane
3 work hour × $65 = $195 | $77 | $272

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2004-19354; Directorate Identifier 2004-CE-30-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Precise Flight, Inc.: Docket No. FAA-2004-19354; Directorate Identifier 2004-CE-30-AD.

When Is the Last Date I Can Submit Comments on This Proposed AD?

(a) We must receive comments on this proposed airworthiness directive (AD) by April 29, 2005.

What Other ADs Are Affected by This Action?

(b) None.

What Airplanes Are Affected by This AD?

(c) This AD affects Models SVS I and SVS IA standby vacuum systems (SVS), installed on, but not limited to, the following aircraft that are certificated in any category. These systems can be installed under the applicable supplemental type certificate (STC) or through field approval:

Affected STC | Make and model/series aircraft
SA2160NM | Raytheon Beech Models 23, A23, A23A, A23-19, 19A, B19, B19A, A23-24, B23, C23, A24, A24R, B24R, C24R, 35, A35, B35, C35, D35, E35, F35, G35, 35R, H35, J35, K35, M35, N35, P35, S35, V35, V35A, V35B, 35-33, 35-A33, 35-B33, 35-C33, 35-C33A, E33, E33A, E33C, F33, F33A, F33C, G33, 36, A36, A36TC, B36TC, 4S(YT-34), A45(T-34A, B-45), D45(T-34B), and Series 77.
SA2161NM | Raytheon Beech Model V35B.
SA2162NM | The Cessna Aircraft Company Models 321 (Navy OE-2), 172N, 172P, 172D, 172M, 172L, 172I, 172H (USAF T-41A), 172F (USAF T-41A), 172E, 172C, 172, 172Q, 172B, TR182, T182, 305B (Military T0-1D, 0-1D, 0-1F), R172E Series, 175C, 175B, 175A, R172F (USAF T-41D), P172D, 150, 150A, 150C, 150B, 150D, A152, A150M, 150M, 152, A150L, 150K, 150J, 150H, 150G, 150F, 210-5 (205), 210-5A (205A), T210R, P210R, T210N, 210N, P210N, 210M, T210L, 210K, T210K, 210J, T210H, 210H, T210G, T210F, 210F, 210D, 210C, 210B, 210A, 210L, 210, A185F, A185E, 185E, 185C, 185B, 185A, 185, 140A, 305A (USAF 0-1A), 305C (USAF 0-1E), 305D (USAF 0-1G), 305F, 120, 170B, 170A, 170, 207A, T207, 207, 206, P206B, P206, P206C, TU206A, TU206G, TU206E, TU206C, P206D, U206G, U206F, U206E, U206D, U206C, U206A, TP206E, TP206D, TP206C, TP206A, P206E, TU206D, T188C, A188B, A188, 188A, and 188.
SA2164NM | The Cessna Aircraft Company Model 180A.
SA2167NM | The New Piper Aircraft, Inc. Models PA-16S and PA-16, Series PA-24, Models PA-24-400, PA-24-250, PA-24, PA-24-260, PA-18S-“135”, PA-18“105” (Special), PA-18AS-“135”, PA-18A-“135”, PA-18-“150”, PA-19S, PA-19 (Army L-18C), PA-18S-“150”, and PA-18-“135” (Army L-21B), Series PA-18, Models PA-18-“125” (Army L-21A), PA-18S, PA-18A, PA-18, and PA-18S-“125”, Series PA-19 and PA-20, Models PA-20, PA-20S, PA-20-“135”, PA-20-“115”, and PA-22S-160, Series PA-22, Models PA-22-160, PA-22S-150, PA-22-150, PA-22, PA-22-108, PA-22-135, and PA-22S-135, Series PA-28, Model PA-28R-200, Series PA-28S and PA-28R, Models PA-28-236, PA-28-201T, PA-28R-180, PA-28RT-201T, PA-28RT-201, PA-28R-201, PA-28-181, PA-28S-180, PA-28R-201T, PA-28S-160, PA-28-235, PA-28-180, PA-28-161, PA-28-160, PA-28-151, PA-28-150, and PA-28-140, Series PA-25 (Normal Category (Cat.)), Models PA-25-260 (Normal Cat.), PA-25-235 (Normal Cat.), PA-25 (Normal Cat.), L-14, PA-12S, PA-12, PA-14, PA-15, PA-17, PA-38-112, PA-46-310P, and PA-32-260, Series PA-32 and PA-32R, Models PA-32-300, PA-32-301T, PA-32-301, PA-32R-301T, PA-32R-301(HP), PA-32R-301(SP), PA-32RT-300T, PA-32RT-300, PA-32R-300, and PA-32S-300, Series PA-36, Models PA-36-375 (Normal Cat.), PA-36-300 (Normal Cat.), and PA-36-285 (Normal Cat.).
SA2168NM | Learjet Inc. Model Learjet 24D. Mooney Aircraft Corporation Models M20C, M20M, M20K, M20J, M20G, M20B, M20A, M20, M20F, M20E, and M22.
SA2683NM | Aermacchi S.p.A. Models F.260, F.260B, S.205-22/R, S.205-18/F, S.205-18/R, S.205-20/F, S.205-20/R, S.208A, and S.208. Aerocar, Incorporated Model I. Aerodifusion, S.L. Model Jodel D-1190S. Aeromere S.A. Model Falco F.8.L. Aeronautica Macchi S.p.A. Models AL60, AL60-B, AL60-F5, and AL60-C5.
| Aeronautica Macchi S.p.A. & Aerfer-Industrie Aerospaziali Meridionali S.p.A. Model AM-3.
| Aeronca Aircraft Corporation Models S15AC and 15AC. Ag Cat Corporation Models G-164B, G-164, and G-164A.
| Alliance Aircraft Group, LLC Models H-395 (USAF L-28A or U-10B), H-250, H-295 (USAF U-10D), HT-295, H-391 (USAF YL-24), H-391B, H-700, and H-395A.
| American Champion Aircraft Corp. Models 7AC, 7FC, 7ACA, S7AC, 7BCM (L-16A), 7CCM (L-16B), 7DC, S7DC, 7EC, S7EC, 7ECA, 7GC, 7GCA, 7GCAA, 7GCB, 7GCBA, 7GCBC, 7HC, 7JC, 7KC, 7KCAB, 11BC, S11AC, S11BC, 11AC, 11CC, S11CC, 8KCAB, and 8GCBC.
| Arctic Aircraft Company, Inc. Models S-1A, S-1A-65F, S-1A-85F, S-1A-90F, S-1B2, S-1B1 (Army L-6), and S-1B1 (Army XL-6).
| Augustair, Inc. Models 2150A, 2180, and 2150.
| Avions Jodel Models D-1190, 150, D-140-B, and DR-1050.
| Bellanca Aircraft Corporation Models 14-19-2, 14-19-3A, 17-30, 17-31, 17-31TC, 14-9, 14-9L, 14-12F-3, 14-13, 14-13-2, 14-13-3, 14-13-3W, 17-30A, 17-31A, and 17-31ATC.
| Biemond, C. Model Teal CB1.
| Board, G.R. Model Columbia XJL-1.
| Booth, Lee F. dba Taylorcraft Aerospace Models F21, F21A, and F19.
| Chaparral Motors, Inc. Models 2T-1A-1 and 2T-1A-2.
| Clark Aircraft, Inc. Models 12 and 1000.
| Commander Aircraft Company Models 114A, 112, 112B, 112TCA, 114, and 112TC.
| C. Itoh Aircraft Maintenance and Engineering Co., Ltd. Model N-62.
| DaimlerChrysler Aerospace AG Models Bolkow Jr., BO-209-150.
| FV & RV, BO-209-160 FV & RV, and BO-209-150 FF.
| Flugzeugwerke Altenrheim AG (FFA) Model AS 202/15 “BRAVO”.
| Found Brothers Aviation Limited Model FBA-2C.
| Fuji Heavy Industries, Ltd. Models FA-200-180AO, FA-200-180, and FA-200-160.
| Funk Aircraft Company Model Funk C.
| Goodyear Aircraft Corporation Model GA-22A.
| Gulfstream Aerospace Corporation Model 111.
| Jamieson Corporation, The Model J-2-L1B.
| Kearns, Edward Scott Model Trojan A-2.
| Luscombe Aircraft Corporation Model 11A.
| Luscombe, The Don, Aviation History Foundation, Inc. Models T-8F, 8A, 8E, 8D, 8B, 8, 8F, and 8C.
| Maule Aerospace Technology, Inc. Models Bee Dee M-4-210, Bee Dee M-4-180S, Bee Dee M-4-180C, Bee Dee M-4T, Bee Dee M-4-210S, Bee Dee M-4S, Bee Dee M-4-210T, Bee Dee M-4-210C, Bee Dee M-4-220S, Bee Dee M-4-220T, Bee Dee M-5-180C, Bee Dee M-5-200, Bee Dee M-5-210TC, Bee Dee M-7-235, Bee Dee M-6-235, Bee Dee M-4C, Bee Dee M-5-220C, Bee Dee M-5-235C, Bee Dee M-6-180, Bee Dee M-5-210C, Bee Dee MX-7-235, Bee Dee M-4, MX-7-160C, Bee Dee M-7 Series, Bee Dee MXT-7-180, Bee Dee MT-7-235, Bee Dee M-8-235, Bee Dee MX-7-160, Bee Dee MXT-7-160, Bee Dee MX-7-180A, Bee Dee MXT-7-180A, Bee Dee MX-7-180B, Bee Dee M-7-235B, Bee Dee M-6 Series, Bee Dee MX-7 Series, Bee Dee M-7-235C, Bee Dee M-4 Series, Bee Dee M-8 Series, Bee Dee MX-7-180C, Bee Dee M-7-260C, M-7-260, MT-7-260, Bee Dee MX-7-180, and Bee Dee M-7-235A.
| Nardi S.A. Model FN-333.
| Navion Aircraft Company, Ltd. Models Navion (L-17A), Navion A (L-17B), Navion A (L-17C), Navion B, Navion D, Navion E, Navion F, Navion G, and Navion H.
| Procaer Progetti Costruzioni Aeronautiche Models F 15/C, F 15/B, and F 15/E.
| Prop-Jets, Inc. Models 200, 200A, 200B, 200C, and 200D.
| REVO, Incorporated Models Lake LA-4-200, Colonial C-1, Colonial C-2, Colonial Lake Model 250, and Lake LA-4.
| Sky International Inc. Models S-1S, S-2A, S-2, and S-1T.
| SOCATA—Groupe Aerospatiale Models MS880B, MS885, MS892A-150, MS892E-150, MS893A, MS893E, MS894A, MS894E, TB10, TB20, TB21, and TB9.
| Sud Aviation Models Gardan GY.80-160, Gardan GY.80-150, and Gardan GY.80-180.
| Swift Museum Foundation, Inc. Models GC-1A and GC-1B.
| Tiger Aircraft LLC Models AA-1, AA-1A, AA-1B, AA-1C, AA-5, AA-5A, and AA-5B.
| Univair Aircraft Corporation Models 415-C, 415-CD, 108-2, 108-3, and F-1.
| Univair Aircraft Corporation Models F-1A, E, 415D, M10, A-2-A, and A-2.
| Wright, Jr., Elzie Model F-1.
SE1779NM | Textron Lycoming, AVCO Corporation Series IGO-540, IO-320, IGSO-540, O-290, GSO-580, O-320, IGO-480, GO-480, GSO-435, O-435, SO-580-A1A, SO-580-A1B, SO-580, O-540, VO-540, TIO-541, TIO-360, TO-360, and LTO-360.
SE1780NM | Curtiss-Wright Corporation Models A70 and A70-2.
| Teledyne Continental Motors Series TSIO-470, A-65, A-75, C75, C-125, C-115, Models A100-1 and A100-2, Series E-165, E-185, O-200, C90, C145, O-300, E-225, O-470, IO-470, Models FSO-470A, FSO-526A, FSO-526-C, Series GO-300, Models GSO-526-A and 6-260-A, Series IO-360, Models 6-320-B, GIO-470-A, T6-320-A, IO-346-B, and IO-346-A, Series IO-520, GTSIO-520, TSIO-520, TSIO-360, and LTSIO-360.

What Is the Unsafe Condition Presented in This AD?

(d) This AD is the result of several reports of failed shuttle control valves of the SVS and one report of an airplane crash with a fatality in which improper use of the SVS was a factor. The actions specified in this AD are intended to correct problems with the SVS before failure or malfunction during instrument flight rules (IFR) flight that can lead to pilot disorientation and loss of control of the aircraft.

What Must I Do To Address This Problem?

(e) To address this problem, you must do the following:

Actions | Compliance | Procedures
(1) Incorporate the airplane flight manual supplement (AFMS) in the airplane flight manual with the appropriate revision in the FAA-approved airplane flight manual (AFM) | Within 30 days after the effective date of this AD, unless already done | Not Applicable.
(i) The owner/operator holding at least a private pilot certificate as authorized by section 43.7 of the Federal Aviation Regulations (14 CFR 43.7) may do the flight manual changes requirement of this AD.
(ii) Make an entry in the aircraft records showing compliance with this portion of the AD following section 43.9 of the Federal Aviation Regulations (14 CFR 43.9).
(2) Install placards described in the AFMS | Before further flight after incorporating the AFMS in the FAA-approved airplane flight manual (AFM) required by paragraph (e)(1) of this AD | Follow the Standby Vacuum System AFM SUPPLEMENT, dated February 4, 2000.
(3) Upgrade the Model SVS I or SVS IA SVS to the Model SVS VISVS, install the appropriate placards, and add the installation report including the instructions for continued airworthiness (ICA) to the maintenance schedule for the aircraft | Within 1 year after the effective date of this AD, unless already done | Follow Precise Flight, Inc. Installation Report No. 08080, Standby Vacuum System Model VI—Shuttle Valve S/N 10243 & Subsequent (Manual Valve), Revision A, dated February 21, 2001.
(4) Do not install any Model SVS I or SVS IA SVS without also doing the actions required by paragraphs (e)(1), (e)(2) and (e)(3) of AD | As of the effective date of this this AD | Not applicable.

May I Request an Alternative Method of Compliance?

(f) You may request a different method of compliance or a different compliance time for this AD by following the procedures in 14 CFR 39.19. Unless FAA authorizes otherwise, send your request to your principal inspector. The principal inspector may add comments and will send your request to the Manager, Seattle Aircraft Certification Office (ACO), FAA. For information on any already approved alternative methods of compliance, contact Ms. Marcia Smith, Aerospace Engineer, FAA, Seattle Aircraft Certification Office, 1601 Lind Avenue, SW, Renton, Washington 98055-4065; telephone: (425) 917-6484; facsimile: (425) 917-6590.

May I Get Copies of the Documents Referenced in This AD?

(g) To get copies of the documents referenced in this AD, contact Precise Flight, Inc., 63120 Powell Butte Road, Bend Oregon 97701, telephone: (800) 547-2558; facsimile: (541) 388-1105; electronic mail: preciseflight@preciseflight.com; Internet: http://www.preciseflight.com/. To view the AD docket, go to the Docket Management Facility; U.S. Department of Transportation, 400 Seventh Street, S.W., Nassif Building, Room PL-401, Washington, DC, or on the Internet at http://dms.dot.gov. The docket number is FAA-2004-19354.

Issued in Kansas City, Missouri, on February 23, 2005.
David R. Showers,
Acting Manager, Small Airplane Directorate, Aircraft Certification Service.

[FR Doc. 05-4239 Filed 3-3-05; 8:45 am]

BILLING CODE 4910-13-P